DEPARTMENT OF DEFENSE

Department of the Army, Corps of Engineers

Notice of Intent To Prepare a Draft Environmental Impact Statement/Environment Impact Report (DEIS/DEIR) for a Permit Application for the Proposed Salton Sea Species Conservation Habitat Project at the Salton Sea, in Riverside and Imperial Counties, CA

AGENCY: U.S. Army Corps of Engineers, Los Angeles District, DoD.

ACTION: Notice of Intent (NOI).

SUMMARY: The U.S. Army Corps of Engineers (Corps), in conjunction with the California Natural Resources Agency, is preparing an EIS/EIR for the Salton Sea Species Conservation Habitat (SCH) Project. The Corps is considering the Natural Resources Agency's application for a Department of the Army permit under section 404 of the Clean Water Act to construct habitat configured in a series of interconnected shallow ponds within the current footprint of the Salton Sea. Preliminary evaluations of potential siting areas indicate that ponds could be constructed at either the north or south ends of the Salton Sea, or in both areas. The SCH Project would be created as the Sea recedes by constructing dikes below the elevation of −228 feet mean sea level (msl) using material excavated from the sea bed. Rivers, which have better water quality than agricultural drain water, would provide the source of water for the ponds. The Project size at total build-out is currently expected to be approximately 2,400 acres, which may be constructed over a period of several years depending on land availability and cost. The final project size may vary depending on the outcome of the alternatives development process. Habitat ponds would vary in size, with several ponds constructed in each phase depending on land availability. Habitat would continue to be constructed in phases in subsequent years as the Sea recedes until the targeted acreage of habitat was constructed. The habitat would be designed with varying ranges of salinity in order to maximize biological productivity and minimize adverse effects associated with water quality. It is anticipated that the SCH Project would begin construction in late 2011 or early 2012.

The primary Federal involvement is the potential issuance of a permit under section 404 of the Clean Water Act, which regulates the discharge of dredged, excavated, or fill material in wetlands, streams, rivers, and other U.S. waters, as well as the evaluation of potential impacts on the human environment from such activities. Therefore, in accordance with the National Environmental Policy Act (NEPA), the Corps is requiring the preparation of an EIS prior to consideration of any permit action. The action must comply with the Section 404(b)(1) Guidelines (40 CFR part 230) and not be contrary to the public interest to be granted a Corps permit. The Corps may ultimately make a determination to permit or deny the above project or permit or deny modified versions of the above project.

Pursuant to the California Environmental Quality Act (CEQA), the Natural Resources Agency will be the Lead Agency for the preparation of an EIR and will use the EIR when considering whether to approve the project. The California Department of Fish and Game (DFG) will act on behalf of the Natural Resources Agency to prepare the EIR and may issue incidental take authorization under section 2081 of the California Endangered Species Act and a Streambed Alteration Agreement under section 1602 of the California Fish and Game Code. The Corps and the Natural Resources Agency have agreed to jointly prepare the EIS/EIR to optimize efficiency and avoid duplication. The EIS/EIR is intended to be sufficient in scope to address the Federal, State, and local requirements for environmental analysis and permitting.

FOR FURTHER INFORMATION CONTACT: Comments and questions regarding scoping of the DEIS/DEIR may be addressed to: Ms. Lanika Cervantes, U.S. Army Corps of Engineers, Los Angeles District, Regulatory Division, San Diego Field Office, ATTN: CESPL-RG-RS-2010-00142-LLC, 6010 Hidden Valley Road, Suite 105, Carlsbad, CA 92011, or lanika.l.cervantes@usace.army.mil. Comments and questions can also be sent to Ms. Kimberly Nicol, California Department of Fish and Game Project Manager, at 78078 Country Club Drive, Suite 109, Bermuda Dunes, CA 92203, or at knicol@dfg.ca.gov. Ms. Lanika Cervantes, Corps Project Manager, can be reached at (760) 602-4838, and Ms. Nicol can be reached at (760) 200-9178. Comment letters sent via electronic mail should include the commenter's physical mailing address, and the project title “Species Conservation Habitat Project” should be included in the electronic mail's subject line.

SUPPLEMENTARY INFORMATION: 1. Project Site and Background Information: The Salton Sea is located in both Imperial and Riverside counties in southeastern California, approximately 35 miles north of the U.S. Mexico border and 50 miles west of the Colorado River. Preliminary evaluations of potential sites indicate that SCH ponds could be constructed at either the north end of the Salton Sea near the Whitewater River, or the south end of the Salton Sea near the New and Alamo rivers, or in both areas.

As the Sea recedes and becomes more saline, fish species will not be able to survive. Simultaneously, the fish-eating birds, including several species of special concern, will lose their forage base and begin to disappear. As the Sea continues to become more saline, current invertebrate species will become less diverse and be replaced by species tolerant of hyper-saline environments (e.g., brine flies and brine shrimp).

The basic purpose of the proposed SCH Project is to protect the fish and wildlife species dependent on the Salton Sea in accordance with California Fish and Game Code, Section 2932 through the creation of aquatic habitat; this is a water dependent activity. The overall goals and purpose of the project under the Clean Water Act, and the objectives through which the goals would be met are as follows:

Goal: Develop a range of aquatic habitats that will support fish and wildlife species dependent on the Salton Sea.

• Objectives for Goal:

—Provide adequate foraging habitat for piscivorous (fish-eating) bird species.

—Develop habitats required to support piscivorous bird species.

—Support a sustainable, productive aquatic community.

—Provide suitable water quality for fish.

—Minimize adverse effects to desert pupfish.

—Minimize risk of selenium.

—Minimize risk of disease/toxicity impacts.

2. Proposed Action: The SCH Project would provide habitat for both fish and invertebrate species, which in turn would provide forage for the numerous bird species dependent on the Salton Sea ecosystem. Salinity would be managed to support various assemblages of invertebrates and fish to diversify the prey base for as wide a variety of bird species as possible. The SCH ponds would be designed to serve those piscivorous bird species that would experience significant declines if the amount of Salton Sea habitat were substantially reduced. For many of these species, a significant proportion of their population uses the Salton Sea.

The SCH ponds would also benefit other bird species, such as the eared grebe, gull-billed tern, western snowy plover, ruddy duck, black tern, and California brown pelican. These species are either not piscivorous and/or only a small proportion of their population depends on the Salton Sea. There are also some subspecies or population segments that would likely use the created habitats as well, such as the least tern (interior subspecies of the California least tern or Mexican least tern, whichever is present at the Salton Sea) and Baja population of the California brown pelican which uses the Salton Sea as a post-breeding site. Ancillary affects to other federally threatened or endangered species may be identified during the development of the EIS/EIR, and would be addressed through either informal or formal section 7 consultation, or a combination there of, with the U.S. Fish and Wildlife Service, as applicable.

Fish currently existing in the Salton Sea or tributaries are the likely candidates for establishment in the SCH ponds. The ponds would likely not provide suitable habitat for the marine species (orangemouth corvina, gulf croaker, and sargo) previously found in the Salton Sea. Tilapia are currently found in large numbers in the Sea, and would likely be the species providing the primary forage base in the ponds for fish eating birds. Since a primary purpose of the ponds is to provide habitat for fish as forage for birds, the ponds would be managed to maximize fish productivity.

The SCH Project is being developed as a proof-of-concept project for future restoration to verify that the core ideas are functional and feasible prior to full scale restoration of the Salton Sea. The SCH Project would help establish viability, technical issues, and overall direction, as well as providing feedback for costs and requirements of construction, operations and management. The SCH project is planned to be constructed beginning in late 2011 or early 2012. The SCH Project would be created in phases as the Sea recedes by constructing dikes below the elevation of −228 feet mean sea level (msl) using material excavated from the sea bed. Rivers, which have better water quality than agricultural drain water, would provide the primary source of water for the ponds. Habitat ponds would vary in size, and several ponds could be constructed in each phase depending on funding and land availability. Habitat would continue to be constructed in subsequent years as the Sea continues to recede until the targeted acreage of habitat was reached. It is currently anticipated that about 2,400 acres of habitat would be created as part of the SCH Project, although the actual amount may vary depending on the outcome of the alternatives development process. Preliminary evaluations of potential siting areas indicate that ponds could be constructed at either the north or south ends of the Salton Sea, or in both areas. The SCH would be designed with varying ranges of salinity in order to maximize biological productivity and minimize adverse effects associated with water quality. Ponds would be designed to optimize fish habitat and maximize fish productivity to provide a sustainable prey base for fish-eating birds. Ponds could also be managed to optimize invertebrate production to enhance the prey base for shorebirds and wading birds.

Depth of water in the ponds is dependent on the slope of the sea bed, but could range up to approximately 6 feet, depending on the areas available for development as the surface water elevation declines. Deeper areas could be created by excavating materials from within the ponds for construction of the dikes or islands. The dike separating adjacent ponds at similar elevations could also be modified to form larger ponds in the future, with portions of the original dike left intact to form islands.

A sedimentation basin could be constructed on lands above elevation −228 msl, or the first SCH pond could function as a sedimentation basin in addition to providing habitat. The first pond may need to be drained periodically for vegetation management and sediment removal; triggers for such actions will be developed as part of the adaptive management plan. Water discharged from the first pond would flow into other ponds, and from there into further ponds or into the Salton Sea.

A variety of methods for managing salinity will be thoroughly evaluated in the EIR/EIS. Several methods are currently under consideration, although additional methods may be identified as part of the scoping process and as a result of special studies that are underway. The method currently being considered is evapo-concentration of salts, which would result in higher salinity in each subsequent pond until the maximum salinity suitable for optimal biological productivity was achieved. Once the maximum desired salinity was achieved, the next series of ponds could again initially be supplied by river water. Saline water from the earlier ponds could be blended with river water to obtain targeted salinities in some of the newer ponds. If not needed for blending in the next phase of ponds, saline water from the ponds would discharge to the Salton Sea. This process would result in a mix of salinities throughout the SCH complex, with salinities being managed by balancing river inflow, evaporation, and discharge. Higher salinities in the initial ponds, if needed, also could be achieved by temporarily blending diverted river water with saline water pumped from the Salton Sea. If necessary, temporary pumping could also be used to initially achieve the targeted salinities in subsequent series of ponds, but longer-term salinity management would be maintained by balancing inflows, evaporation, and discharge. If additional salt water were needed in future years to maintain salinity, saline water from the higher salinity ponds could be recirculated to the lower salinity ponds.

Siting SCH ponds adjacent to the confluence of the New, Alamo, or Whitewater rivers and the Salton Sea would minimize the need for conveyance facilities to transport freshwater from these rivers to the ponds. Water flow from the rivers and between the ponds could be controlled with valves to be able to respond to varying evaporation or seepage rates and to allow changes in operations to modify salinity or water depth goals. The precise method of conveying water will be evaluated as part of the engineering design and environmental review process.

Monitoring and evaluation would commence upon completion of the ponds in the first year and would continue thereafter. A monitoring and adaptive management plan would be implemented to monitor and evaluate biological and water quality parameters, habitat function, and engineering performance of the SCH Project. Information obtained from monitoring and evaluation would be used to refine the engineering design, wildlife management criteria, and adaptive strategies for continued development of subsequent phases of the SCH Project. Adaptive and flexible strategies would reduce the risks and uncertainties associated with operating larger complexes and facilitate managing or mitigating observed issues and problems.

3. Issues: A number of potential environmental issues will be addressed in the EIS/EIR. Additional issues may be identified during the scoping process, but issues initially identified as potentially significant or that are believed to be of local concern include:

1. Agricultural Resources: Impacts from conversion of farmland to non-agricultural use, and dust due to construction.

2. Air Quality: Impacts during construction, operations, and maintenance, and also the beneficial impact on fugitive dust from covering exposed playa with water.

3. Biological Resources: Impacts on fish and wildlife during construction, operations, and maintenance.

4. Cultural Resources: Potential impacts to archaeological resources, human remains, and sacred sites activities.

5. Environmental Justice: Potential effects on the Torres Martinez Desert Cahuilla Indian Tribe and other local communities from construction. operations, and maintenance activities.

6. Geology and Soils: Impacts during construction, operations, and maintenance.

7. Greenhouse Gas Emissions/Climate Change: Impacts during construction, operations, and maintenance.

8. Hazards and Hazardous Materials: Impacts during construction, maintenance, and operations.

9. Hydrology and Water Quality: Impacts during construction, operations, and maintenance.

10. Indian Trust Assets: Effects on Torres Martinez Tribe's trust assets from development of the sites near the Whitewater River.

11. Land Use: Potential conflicts with other existing or planned land uses and local plans, policies, and ordinances.

12. Noise: Impacts during construction, operations, and maintenance.

13. Paleontological Resources: Potential impacts from ground-disturbing activities.

14. Transportation and Traffic: Impacts during construction, operations, and maintenance.

4. Alternatives: Several alternatives are being considered for the proposed action. The EIS/EIR may include a co-equal analysis of the project alternatives considered. Alternatives initially being considered for the SCH Project include: (a) Alternative locations (at the confluence of the New, Alamo, or Whitewater rivers and the Salton Sea, or a combination of sites); (b) different acreages of created habitat; (c) different pond sizes and configurations; (d) different ranges of salinity within the ponds; and (e) no action. The range and characteristics of the alternatives addressed in the EIS/EIR will be further developed based on input from the scoping process and special studies that are underway.

5. Scoping Process: The Corps and the Natural Resources Agency will jointly conduct a series of public scoping meetings to receive public comments regarding the appropriate scope and content of for the SCH Project DEIS/DEIR and to assess public concerns. Additionally, a public hearing will be held during the public comment period once the DEIS/DEIR is released. Participation in the public meetings by Federal, State, and local agencies, affected Indian tribes, and other interested organizations and persons is encouraged. Parties interested in being added to the electronic mail notification list for any projects associated with the Salton Sea can register at: http://www.spl.usace.army.mil/regulatory/ under the Public Notice tab, Distribution List registration. This list will be used in the future to notify the public about scheduled hearings and availability of future public notices. Parties interested in obtaining additional information about the SCH Project can also visit the Natural Resources Agency Web site at http://resources.ca.gov/restoring_the_salton_sea.html.

The scoping meetings will be held at:

1. Palm Desert—July 7, 2010 at 1 p.m. at University of California, 75-080 Frank Sinatra Drive, Room B200, Palm Desert, CA 92211.

2. Thermal—July 7, 2010 at 6:30 p.m. at Torrez-Martinez Tribal Administration Building, 66-725 Martinez Road, Thermal, CA 92274.

3. Calipatria—July 8, 2010 at 1 p.m. at Calipatria Inn and Suites, 700 North Sorenson Avenue, Calipatria, CA 92233.

4. Brawley—July 8, 2010 at 6:30 p.m. at Elks Lodge #1420, 161 South Plaza, Brawley, CA 92227.

Comments on the proposed action, alternatives, or any additional concerns should be submitted in writing. Written comment letters will be accepted through July 24, 2010.

The following permits and consultations are expected to be required: Clean Water Act section 404 permit/section 401 water quality certification; Endangered Species Act section 7 consultation; National Historic Preservation Act section 106 consultation; California Endangered Species Act section 2081 incidental take authorization; California Fish and Game Code section 1602 Streambed Alteration Agreement; and air quality permits.

5. Availability of the DEIS/DEIR: The DEIS/DEIR is expected to be published and circulated by early 2011, and a public meeting will be held after its publication.

Dated: June 14, 2010.
Mark D. Cohen,
Deputy Chief, Regulatory Division, Corps of Engineers.

[FR Doc. 2010-15176 Filed 6-22-10; 8:45 am]

BILLING CODE 3720-58-P